GENERAL SERVICES ADMINISTRATION

Privacy Act of 1974; Revised Privacy Act System of Records

AGENCY: General Services Administration.

ACTION: Notice of a revised Privacy Act system of records.

SUMMARY: GSA reviewed its Privacy Act systems to ensure that they are relevant, necessary, accurate, up-to-date, covered by the appropriate legal or regulatory authority, and compliant with OMB M-07-16. This notice is an updated Privacy Act system of records notice.

DATES: Effective October 13, 2009.

FOR FURTHER INFORMATION CONTACT: Call or e-mail the GSA Privacy Act Officer: telephone 202-208-1317; e-mail gsa.privacyact@gsa.gov.

ADDRESSES: GSA Privacy Act Officer (CIB), General Services Administration, 1800 F Street, NW., Washington, DC 20405.

SUPPLEMENTARY INFORMATION: GSA reviewed this Privacy Act system of records notice to ensure that it is relevant, necessary, accurate, up-to-date, covered by the appropriate legal or regulatory authority, and is in compliance with the Secure Flight Program. Nothing in the revised system notice indicates a change in authorities or practices regarding the collection and maintenance of information, nor do the changes impact individuals' rights to access or amend their records in the systems of records.

Dated: September 4, 2009.
Cheryl M. Paige,
Director, Office of Information Management.

GSA/GOVT-3

SYSTEM NAME:

Travel Charge Card Program.

SYSTEM LOCATION:

This system of records is located in the finance office of the local installation of the Federal agency for which an individual has traveled. Records necessary for a contractor to perform under a contract are located at the contractor's facility.

CATEGORIES OF INDIVIDUALS COVERED BY THE SYSTEM:

Individuals covered by the system are current Federal employees who have their own government assigned charge card and all other Federal employees and authorized individuals who use a Federal account number for travel purposes.

CATEGORIES OF RECORDS IN THE SYSTEM:

Records include name, address, Social Security Number, date of birth, employment information, telephone numbers, information needed for identification verification, travel authorizations and vouchers, charge card applications, charge card receipts, terms and conditions for use of charge cards, and monthly reports from contractor(s) showing charges to individual account numbers, balances, and other types of account analyses.

AUTHORITY FOR MAINTENANCE OF THE SYSTEM:

5 U.S.C. 5707 and as implemented by the Federal Travel Regulation, 41 CFR 300-304; E.O. 9397; E.O. 11609; Public Law 107-56 Sec. 326; Public Law 109-115 Sec. 846.

PURPOSE:

To assemble in one system information to provide government agencies with: (1) Necessary information on the commercial travel and transportation payment and expense control system, which provides travelers charge cards and the agency an account number for official travel and related travel expenses on a worldwide basis; (2) attendant operational and control support; and (3) management information reports for expense control purposes.

ROUTINE USES OF THE SYSTEM RECORDS, INCLUDING CATEGORIES OF USERS AND THEIR PURPOSES FOR USING THE SYSTEM:

a. To another Federal agency, Travel Management Center (TMC), online booking engine suppliers and the airlines that are required to support the Department of Homeland Security/Transportation Security Administration (DHS/TSA) Secure Flight Program. In this program, DHS/TSA assumes the function of conducting pre-flight comparisons of airline passenger information to Federal Government watch lists. In order to supply the appropriate information, these mentioned parties are responsible for obtaining new data fields consisting of personal information for date of birth, gender, known traveler number and redress number. At this time, the redress number and known traveler number are optional but may be required to be stored in another phase of the Secure Flight program.

b. To disclose information to a Federal, State, local, or foreign agency responsible for investigating, prosecuting, enforcing, implementing, or carrying out a statute, rule, regulation, or order, where an agency becomes aware of a violation or potential violation of civil or criminal law or regulation.

c. To disclose information to a Member of Congress or a congressional staff member in response to an inquiry made at the request of the individual who is the subject of the record.

d. To disclose information to the contractor in providing necessary information for issuing credit cards.

e. To disclose information to an appeal, grievance, or formal complaints examiner; equal employment opportunity investigator; arbitrator; exclusive representative; or other official engaged in investigating, or settling a grievance, complaint, or appeal filed by an employee.

f. To disclose information to officials of labor organizations recognized under Public Law 95-454, when necessary to their duties of exclusive representation on personnel policies, practices, and matters affecting working conditions.

g. To disclose information to a Federal agency for accumulating reporting data and monitoring the system.

h. To disclose information in the form of listings, reports, and records of all common carrier transactions including refunds and adjustments to an agency by the contractor to enable audits of carrier charges to the Federal government.

i. To appropriate agencies, entities, and persons when (1) The Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

j. To a Federal agency in connection with the hiring or retention of an employee; the issuance of a security clearance; the reporting of an investigation; the letting of a contract; or the issuance of a grant, license, or other benefit to the extent that the information is relevant and necessary to a decision.

k. To the Office of Personnel Management (OPM), the Office of Management and Budget (OMB), or the Government Accountability Office (GAO) when the information is required for program evaluation purposes.

l. To an expert, consultant, or contractor of GSA in the performance of a Federal duty to which the information is relevant.

m. To the National Archives and Records Administration (NARA) for records management purposes.

POLICIES AND PRACTICES FOR STORING, RETRIEVING, ACCESSING, RETAINING, AND DISPOSING OF SYSTEM RECORDS:

STORAGE:

Paper records are stored in file folders. Electronic records are stored within a computer and associated equipment.

RETRIEVABILITY:

Records are filed and retrieved by name, Social Security Number, and/or credit card number.

SAFEGUARDS:

Paper records are stored in lockable file cabinets or secured rooms. Electronic records are protected by passwords, access codes, and entry logs. There is restricted access to credit card account numbers, and information is released only to authorized users and officials on a need-to-know basis.

RETENTION AND DISPOSAL:

Records are kept for 3 years and then destroyed, as required by the General Records Retention Schedules issued by the National Archives and Records Administration (NARA).

SYSTEM MANAGER AND ADDRESS:

Assistant Commissioner, Office of Travel, Motor Vehicle, and Card Services (QM), Federal Acquisition Service, General Services Administration, Crystal Park Building 3, 2200 Crystal Drive, Arlington, VA 22202.

NOTIFICATION PROCEDURE:

Inquiries by individuals should be addressed to the Finance Officer of the agency for which they traveled.

RECORD ACCESS PROCEDURES:

Requests from individuals should be addressed to the Finance Officer of the agency for which they traveled. Individuals must furnish their full name and the authorizing agency and its component to facilitate the location and identification of their records.

CONTESTING RECORD PROCEDURE:

Individuals wishing to request amendment of their records should contact the Finance Officer of the agency for which they traveled. Individuals must furnish their full name and the authorizing agency and component for which they traveled.

RECORD SOURCE CATEGORIES:

Charge card applications, monthly reports from the contractor, travel authorizations and vouchers, credit card companies, and data interchanged between agencies.

[FR Doc. E9-21921 Filed 9-9-09; 8:45 am]

BILLING CODE 6820-34-P